ENVIRONMENTAL PROTECTION AGENCY

40 CFR Part 52

[OR 82-7297b; FRL-6714-6]

Approval and Promulgation of State Implementation Plans: Oregon

AGENCY: Environmental Protection Agency (EPA).

ACTION: Proposed rule.

SUMMARY: The EPA proposes to approve the State Implementation Plan (SIP) revisions submitted by Oregon Department of Environmental Quality (ODEQ), for the purpose of repealing the Consumer Products Rules, repealing the Architectural Coatings Rules, revising and partially repealing the Motor Vehicle Refinishings Rules, and revising the Volatile Organic Compounds Definitions. The SIP revisions were submitted by the State to satisfy certain Federal Clean Air Act requirements under section 110 and part D. In the Final Rules section of this Federal Register, EPA is approving the State's SIP submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time.

DATES: Written comments must be received in writing by August 4, 2000.

ADDRESSES: Written comments should be addressed to: Debra Suzuki, SIP Manager, EPA, Office of Air Quality (OAQ-107), 1200 Sixth Avenue, Seattle, Washington 98101. Copies of the state submittal and other information supporting this action are available at the following addresses for inspection during normal business hours. The interested persons wanting to examine these documents should make an appointment with the appropriate office at least 24 hours before the visiting day: Environmental Protection Agency, Region 10, Office of Air Quality (OAQ-107), 1200 Sixth Avenue, Seattle, Washington 98101; and Oregon Department of Environmental Quality, 811 SW Sixth Avenue, Portland, Oregon 97204-1390.

FOR FURTHER INFORMATION CONTACT: Debra Suzuki, EPA, Office of Air Quality (OAQ-107), 1200 Sixth Avenue, Seattle, Washington 98101, (206) 553-0985.

SUPPLEMENTARY INFORMATION: For additional information, see the Direct Final rule which is located in the Rules section of this Federal Register.

Dated: May 22, 2000.
Chuck Clarke,
Regional Administrator, Region 10.

[FR Doc. 00-16069 Filed 7-3-00; 8:45 am]

BILLING CODE 6560-50-P